DEPARTMENT OF JUSTICE

Notice of Lodging of Proposed Amended Consent Decree Under The Comprehensive Environmental Response, Compensation and Liability Act

On July 18, 2019, the Department of Justice lodged a proposed Amended Consent Decree with the United States District Court for the Southern District of Iowa in the lawsuit entitled United States v. ACC Chemical Company, et al., Civil Action No. 3-91-CV-10096.

This case concerns the Chemplex Superfund Site in Clinton, Iowa. The United States originally brought this action in 1991 under the Comprehensive Environmental Response, Compensation and Liability Act (“CERCLA”), 42 U.S.C. 9601, et seq., to require defendants ACC Chemical Company, Four Star Oil & Gas Company, Getty Chemical Company, Primerica Holdings, Inc., Skelly Oil Company, Quantum Chemical Corporation, Equistar Chemicals, LP, and the City of Clinton, Iowa, to implement EPA's selected remedy for the Chemplex Site, and to pay costs incurred by the United States in response to releases of hazardous substances at the Site. The original Consent Decree required the defendants to pay $597,838.29 in reimbursement of response costs incurred by EPA, to reimburse EPA's future oversight costs at the Site, and to implement EPA's selected remedy for the Site.

The Amended Consent Decree requires the defendants to implement EPA's amended remedy for the Site, adopted by EPA in its Amended Record of Decision for the Site, dated December 26, 2012. Since that date, the defendants have been working cooperatively with EPA to implement EPA's amended remedy. The Amended Consent Decree formalizes their obligation to continue doing so.

The publication of this notice opens a period for public comment on the Consent Decree. Comments should be addressed to the Assistant Attorney General, Environment and Natural Resources Division, and should refer to United States v. ACC Chemical Company, et al., D.J. Ref. No. 90-11-2-543/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $14.00 (25 cents per page reproduction cost) payable to the United States Treasury.

Jeffrey Sands,
Assistant Section Chief, Environmental Enforcement Section, Environment and Natural Resources Division.

[FR Doc. 2019-15846 Filed 7-25-19; 8:45 am]

BILLING CODE 4410-15-P